DEPARTMENT OF LABOR

Employment and Training Administration

[TA-W-62,871]

Central Michigan Staffing Workers On-Site at ITW Foils Mt. Pleasant, MI; Notice of Termination of Investigation

Pursuant to Section 221 of the Trade Act of 1974, as amended, an investigation was initiated on February 21, 2008 in response to a petition filed by a state representative on behalf of workers of Central Michigan Staffing, workers on-site at ITW Foils, Mt. Pleasant, Michigan.

All workers of the subject firm employed on site at ITW Foils, Mt. Pleasant, Michigan are covered by a certification of eligibility to apply for worker adjustment assistance and alternative trade adjustment assistance under petition number TA-W-62,538, as amended on February 27, 2008.

Consequently, further investigation in this case would serve no purpose and the investigation under this petition has been terminated.

Signed at Washington, DC, this 27th day of February 2008.
Richard Church,
Certifying Officer, Division of Trade Adjustment Assistance.

[FR Doc. E8-4445 Filed 3-6-08; 8:45 am]

BILLING CODE 4510-FN-P